DEPARTMENT OF AGRICULTURE

Forest Service

Notice of Proposed New Fee Sites

AGENCY: Forest Service, Agriculture (USDA).

ACTION: Notice of proposed new fee sites.

SUMMARY: The Tonto National Forest is proposing to charge new fees at multiple recreation sites listed in SUPPLEMENTARY INFORMATION of this notice. Funds from fees would be used for operation, maintenance, and improvements of these recreation sites. Many sites have recently been reconstructed or amenities are being added to improve services and experiences. An analysis of nearby developed recreation sites with similar amenities shows the proposed fees are reasonable and typical of similar sites in the area.

DATES: If approved, the new fee would be implemented no earlier than six months following the publication of this notice in the Federal Register.

ADDRESSES: Tonto National Forest, Attention: Recreation Fees, 1009 E Hwy. 260, Payson, Arizona 85541.

FOR FURTHER INFORMATION CONTACT: Greg Schuster, Tonto Fee Program Manager, (480) 292-0291 or tontorecreationcomments@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, East Verde and Flowing Springs picnic sites are proposed at $12 day-use fee per vehicle. The full suite of Interagency passes would be honored. Additionally, the Tonto National Forest proposes to charge fees at five Off-Highway Vehicle (OHV) zones. These zones are currently in use by the public and are in high demand due to their easy access from the Phoenix metro area and the growing popularity of OHV use. The five OHV zones include Bulldog Canyon, The Rolls, Lower Sycamore, St. Clair, and Desert Vista. OHV permits will be sold through Recreation.gov and administered by the Tonto National Forest. Permits are required for all OHV operators (not passengers) and are proposed at $100 per year, $50 per month, and $10 per day.

New fees would provide increased visitor opportunities as well as increased staffing to address operations and maintenance needs and enhance customer service. Once public involvement is complete, these new fees will be reviewed by a Recreation Resource Advisory Committee prior to a final decision and implementation.

Permits will be available through www.recreation.gov or by calling 1-877-444-6777. The reservation service charges a $6.00 fee for permits.

Dated: March 23, 2022.
Sandra Watts,
Acting Associate Deputy Chief, National Forest System.

[FR Doc. 2022-06465 Filed 3-25-22; 8:45 am]

BILLING CODE 3411-15-P